DEPARTMENT OF ENERGY

Federal Energy Regulatory Commission

[Project No. 11730-000]

Black River Limited Partnership; Notice of Availability of Draft Environmental Assessment

October 19, 2000.

In accordance with the National Environmental Policy Act of 1969 and the Federal Energy Regulatory Commission's (Commission) regulations, 18 CFR Part 380 (Order No. 486, 52 F.R. 47897), the Office of Energy Projects has reviewed the application for an original license for the existing and operating Alverno Hydroelectric Project, located on the Black River in the townships of Aloha, Benton, and Grant in Michigan (Cheboygan County) and has prepared an Environmental Assessment (EA) for the project.

Copies of the EA are available for review in the Public Reference Branch, Room 2-A, of the Commission's offices at 888 First Street, NE., Washington, DC 20426. The EA may also be viewed on the web at http://www.ferc.us/online/rims.htm. Please call (202) 208-2222 for assistance.

Any comments should be filed within 30 days from the date of this notice and should be addressed to David P. Boergers, Secretary, Federal Energy Regulatory Commission, 888 First Street, NE., Room 1-A, Washington, DC 20426. Please affix “Alverno Hydroelectric Project No. 11730-000” to the top page of all comments. For further information, contact John Costello at (202) 219-2914 or john.costello@ferc.fed.us. Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-27339 Filed 10-24-00; 8:45 am]

BILLING CODE 6717-01-M